DEPARTMENT OF HOMELAND SECURITY

Coast Guard

33 CFR Part 117

[Docket No. USCG-2012-0281]

Drawbridge Operation Regulation; Snohomish River and Steamboat Slough, Everett and Marysville, WA

AGENCY: Coast Guard, DHS.

ACTION: Notice of temporary deviation from regulations.

SUMMARY: The Coast Guard has issued a temporary deviation from the operating schedules that govern the SR 529 Bridge across the Snohomish River, mile 3.6 near Everett, WA. and the SR 529 Bridge across Steamboat Slough, mile 1.1, near Marysville, WA. This deviation is necessary to accommodate the Total Health Events Heros Half Marathon scheduled for April 29, 2012. This deviation allows the bridges to remain in the closed position to allow safe movement of event participants.

DATES: This deviation is effective from 5 a.m. on April 29, 2012 through 12:01 p.m. April 29, 2012.

ADDRESSES: Documents mentioned in this preamble as being available in the docket are part of docket USCG-2012-0281 and are available online by going to http://www.regulations.gov, inserting USCG-2012-0281 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Randall D. Overton, Bridge Administrator, Coast Guard Thirteenth District; telephone 206-220-7282; email randall.d.overton@uscg.mil. If you have questions on viewing the docket, call Renee V. Wright, Program Manager, Docket Operations, telephone 202-366-9826.

SUPPLEMENTARY INFORMATION: The Washington State Department of Transportation (WSDOT) has requested that the SR 529 Bridge across the Snohomish River and the SR 529 Bridge across Steamboat Slough remain closed to vessel traffic to facilitate safe, uninterrupted roadway passage of participants of the Total Health Events Heros Half Marathon. The Heros Half Marathon is a benefit run for the St. Jude Children's Research Hospital. The race course passes over both bridges. The SR 529 Bridge which crosses the Snohomish River at mile 3.6 provides 38 feet of vertical clearance above mean high water elevation while in the closed position. The SR 529 Bridge which crosses Steamboat Slough at mile 1.1 provides 10 feet of vertical clearance above mean high water elevation while in the closed position. Vessels which do not require a bridge opening may continue to transit beneath the bridges during this closure period. Under normal conditions the SR 529 Bridge crossing the Snohomish River operates in accordance with 33 CFR 117.1059(c) which requires advance notification of one-hour when a bridge opening is needed. Under normal conditions the SR 529 Bridge crossing Steamboat Slough operates in accordance with 33 CFR 117.1059(g) which requires advance notification of four hours when a bridge opening is needed. This deviation period is from 5 a.m. on April 29, 2012 through 12:01 p.m. April 29, 2012. The deviation allows the SR 529 Bridge crossing the Snohomish River and the SR 529 Bridge crossing Steamboat Slough, to remain in the closed position and need not open for maritime traffic from 5 a.m. through 12:01 p.m. on April 29, 2012. The bridges shall operate in accordance to 33 CFR 117.1059 at all other times. Waterway usage on the Snohomish River and Steamboat Slough includes vessels ranging from commercial tug and barge to small pleasure craft. Mariners will be notified and kept informed of the bridges' operational status via the Coast Guard Notice to Mariners publication and Broadcast Notice to Mariners as appropriate. Both bridges will be required to open, if needed, for vessels engaged in emergency response operations during this closure period.

In accordance with 33 CFR 117.35(e), the drawbridges must return to their regular operating schedule immediately at the end of the designated time period. This deviation from the operating regulations is authorized under 33 CFR 117.35.

Dated: March 30, 2012.
Randall D. Overton,
Bridge Administrator.

[FR Doc. 2012-8966 Filed 4-12-12; 8:45 am]

BILLING CODE 9110-04-P